SECURITIES AND EXCHANGE COMMISSION

In the matter of Bentley Commerce Corp., File No. 500-1.; Order of Suspension of Trading

July 19, 2007.

It appears to the Securities and Exchange Commission that there is a lack of current and accurate information concerning the securities of Bentley Commerce Corp. because it has not filed any periodic reports since it filed a Form 10-QSB for the period ended March 31, 2005.

The Commission is of the opinion that the public interest and the protection of investors require a suspension of trading in the securities of the above-listed company.

Therefore, it is ordered, pursuant to Section 12(k) of the Securities Exchange Act of 1934, that trading in Bentley Commerce Corp. is suspended for the period from 9:30 a.m. EDT on July 19, 2007, through 11:59 p.m. EDT on August 1, 2007.

By the Commission.
Nancy M. Morris,
Secretary.

[FR Doc. 07-3602 7-19-07; 1:18 pm]

BILLING CODE 8010-01-P